DEPARTMENT OF TRANSPORTATION

Surface Transportation Board

[STB Finance Docket No. 34563]

Buffalo & Pittsburgh Railroad, Inc.—Lease and Operation Exemption—South Buffalo Railway Company

AGENCY: Surface Transportation Board, DOT.

ACTION: Notice of exemption.

SUMMARY: Under 49 U.S.C. 10502, the Board is granting a petition for exemption from the prior approval requirements of 49 U.S.C. 10902 for Buffalo & Pittsburgh Railroad, Inc., a Class II rail carrier, to lease and operate an approximately 2-mile segment of rail line between approximately milepost 0.0 and approximately milepost 2.0 in Buffalo, Erie County, NY, owned by its Class III rail carrier affiliate, South Buffalo Railway Company.

DATES: The exemption will be effective on December 30, 2004. Petitions to stay must be filed by January 3, 2005. Petitions to reopen must be filed by January 12, 2005.

ADDRESSES: Send an original and 10 copies of all pleadings referring to STB Finance Docket No. 34563, to: Surface Transportation Board, 1925 K Street, NW., Washington, DC 20423-0001. In addition, send one copy of pleadings to Jo A. DeRoche, Weiner Brodsky Sidman Kider PC, 1300 19th Street, NW., Fifth Floor, Washington, DC 20036-1609.

FOR FURTHER INFORMATION CONTACT: Eric S. Davis, (202) 565-1608. [Assistance for the hearing impaired is available through the Federal Information Relay Service (FIRS) at 1-800-877-8339.]

SUPPLEMENTARY INFORMATION: Additional information is contained in the Board's decision. To purchase a copy of the full decision, write to, e-mail or call: ASAP Document Solutions, 9332 Annapolis Rd., Suite 103, Lanham, MD 20706; e-mail asapdc@verizon.net; telephone (202) 306-4004. [Assistance for the hearing impaired is available through FIRS at 1-800-877-8339.]

Board decisions and notices are available on our Web site at http://www.stb.dot.gov.

Decided: December 22, 2004.
By the Board, Chairman Nober, Vice Chairman Mulvey, and Commissioner Buttrey.
Vernon A. Williams,
Secretary.

[FR Doc. 04-28486 Filed 12-29-04; 8:45 am]

BILLING CODE 4915-01-P